ENVIRONMENTAL PROTECTION AGENCY

[FRL-9941-45-OARM]

Good Neighbor Environmental Board; Notification of Public Advisory Committee Meeting

AGENCY: Environmental Protection Agency (EPA).

ACTION: Notice of Public Advisory Committee Meeting.

SUMMARY: Pursuant to the Federal Advisory Committee Act, Public Law 92-463, notice is hereby given that the Good Neighbor Environmental Board will hold a public meeting on Wednesday, February 10 and Thursday, February 11, 2016 in Brownsville, TX. The meeting is open to the public.

DATES: The Good Neighbor Environmental Board will hold an open meeting on Wednesday, February 10 from 9:00 a.m. (registration at 8:30 a.m.) to 5:30 p.m. The following day, Thursday, February 11, the Board will meet from 8:30 a.m. (registration at 8:00 a.m.) until 2:00 p.m.

SUPPLEMENTARY INFORMATION:

Background: The Good Neighbor Environmental Board (Board) is a federal advisory committee chartered under the Federal Advisory Committee Act, PL 92463. By statute, the Board is required to submit an annual report to the President and Congress on environmental and infrastructure issues along the U.S. border with Mexico.

Purpose of Meeting: The purpose of this meeting is to begin discussion on the Good Neighbor Environmental Board's Seventeenth Report. The report will focus on climate change resiliency in the U.S.-Mexico border region.

ADDRESSES: The meeting will be held at the Ringgold Civic Pavilion, 501 E Ringgold St., Brownsville, TX 78520. The number is (956) 547-6850. The meeting is open to the public, with limited seating on a first-come, first-serve basis.

General Information: The agenda will be available at http://www2.epa.gov/faca/gneb. General information about the Board can be found on its Web site at http://www2.epa.gov/faca/gneb. If you wish to make oral comments or submit written comments to the Board, please contact Ann-Marie Gantner at least five days prior to the meeting. Written comments should be submitted Ann-Marie Gantner at gantner.ann-marie@epa.gov.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: January 11, 2016.
Ann-Marie Gantner,
Acting Designated Federal Officer.

[FR Doc. 2016-01018 Filed 1-19-16; 8:45 am]

BILLING CODE 6560-50-P